DEPARTMENT OF THE INTERIOR

Bureau of Land Management

[WY-100-06-1310-DB]

Notice of Availability of the Final Environmental Impact Statement for the Proposed Jonah Infill Drilling Project, Sublette County, WY

AGENCY: Bureau of Land Management, Interior.

ACTION: Notice of availability.

SUMMARY: Under the National Environmental Policy Act (NEPA), the Federal Land Policy and Management Act of 1976 (FLPMA) and associated regulations, the Bureau of Land Management (BLM) announces the availability of the Final Environmental Impact Statement (FEIS) that evaluates, analyzes, and discloses to the public direct, indirect, and cumulative environmental impacts of a proposal to further develop the Jonah natural gas field through infill drilling in Sublette County, Wyoming.

ADDRESSES: A copy of the FEIS has been sent to affected Federal, State, and local government agencies, and to interested parties.

An electronic copy of the FEIS may be viewed or downloaded from the BLM Web site at http://www.wy.blm.gov/nepa/nepadocs.htm. Copies of the FEIS are available for public inspection at the following BLM office locations:

• Bureau of Land Management, Wyoming State Office, 5353 Yellowstone Road, Cheyenne, Wyoming.

• Bureau of Land Management, Pinedale Field Office, 432 East Mill Street, Pinedale, Wyoming.

FOR FURTHER INFORMATION CONTACT: Mr. Mike Stiewig, Project Manager, BLM Pinedale Field Office, 432 East Mill Street, Pinedale, Wyoming 82941. Mr. Stiewig may also be reached at (307) 367-5363.

SUPPLEMENTARY INFORMATION: In response to a proposal submitted by EnCana Oil and Gas (USA), Inc. (EnCana), BP America Production Company (BP), and other companies, referred to collectively as the Companies, the BLM published in the March 13, 2003, Federal Register a Notice of Intent (NOI) to prepare an Environmental Impact Statement (EIS). The Draft Environmental Impact Statement was published in February 2005. On April 14, 2005, the BLM notified the public of its intent to prepare supplemental air quality information and that comments on the DEIS Air Quality information would continue to be accepted until the supplemental information was completed. On August 9, 2005, the BLM announced the availability of the JIDP DEIS supplemental air quality information and summary and a 60 day review period during which BLM would accept comments.

The Jonah Infill Drilling Project Area (JIDPA) covers approximately 30,500 acres in Townships 28 and 29 North, Ranges 107, 108, and 109 West, 6th Principal Meridian, approximately 32 miles southeast of Pinedale, Sublette County, Wyoming. The FEIS analyzes a proposal by the Companies to infill drill and develop Federal natural gas resources in an area known as the Jonah Field. The Companies' proposal includes drilling 3,100 additional natural gas wells and constructing associated ancillary transportation and transmission facilities within the JIDPA. The proposed life of the project (LOP) is approximately 76 years, with the majority of drilling and development activities to occur within the first 12 years following approval of the BLM Record of Decision (ROD). The total 30,500 acre project area comprises approximately 28,580 acres of Federal surface and mineral estate administered by the BLM, 1,280 acres of State of Wyoming surface and mineral, and 640 acres of split estate (private surface/Federal mineral) lands. To offset expected impacts from closely spaced infill drilling, EnCana has volunteered varying levels of off-site compensatory mitigation based on the level of new surface disturbance authorized in the ROD for this project.

The FEIS describes in detail and analyzes the impacts of five alternatives, including the No Action Alternative and the Companies' Proposed Action. The following is a summary of the alternatives:

1. Proposed Action—Up to 3100 new gas wells would be drilled and developed, with associated ancillary facilities, on up to 16,200 acres of new surface disturbance. Bottom-hole well spacing is expected to range from 16 wells per 640-acre section (40-acre spacing) to 128 wells per section (5-acre well spacing). Additionally, compensatory (off-site) mitigation has been volunteered by EnCana.

2. No Action Alternative—The no action alternative means that the project as proposed would not be approved.

3. Alternative A—This alternative proposes to maximize economic recovery of gas resources. New surface disturbance would be comparable to the Proposed Action, but many of the existing BLM Conditions of Approval, stipulations and mitigations would be exempted.

4. Alternative B—This alternative proposes to minimize surface disturbance by requiring directional drilling from existing well pads. This alternative requires expansion of existing well pads but results in the least amount of new surface disturbance while still providing for a higher level of resource recovery.

5. Alternative C (Agency Preferred)—This alternative proposes to achieve high levels of natural gas recovery approaching that of the Proposed Action, while minimizing resource impacts by the use of outcome-based performance objectives, mitigation, and Best Management Practices. This alternative manages surface disturbance on a field-wide level, not to exceed 46 percent at any given time. Once interim reclamation meets BLM standards, credit would be applied to the allowable surface disturbance acreage limits. Maximum cumulative surface disturbance or number of wells would not exceed those of the proposed action.

Features common to all action alternatives: The Companies would agree to some “operator committed” mitigation measures when operating on Federal surface lands.

DATES: The FEIS will be available for review for 30 calendar days following the date that the Environmental Protection Agency (EPA) publishes its NOA in the Federal Register. A Record of Decision (ROD) will be prepared following the close of the 30 day review period.

How To Submit Comments

Comments may be mailed directly or delivered to the BLM at: Jonah Infill Drilling Project FEIS, Project Manager, Bureau of Land Management, Pinedale Field Office, 432 East Mill Street, PO Box 768, Pinedale, Wyoming 82941.

You may mail comments electronically to WYMail_Jonah_Infill@blm.gov. Please put “Attention: Mike Stiewig” in the subject line.

To receive full consideration by the BLM all FEIS comment submittals must include the commenter's name and street address.

Our practice is to make comments, including the names and street addresses of each respondent, available for public review at the BLM office listed above during the business hours (8 a.m. to 4:30 p.m.), Monday through Friday, except for Federal holidays. Your comments may be published as part of the EIS process. Individual respondents may request confidentiality. If you wish to withhold your name or street address, or both, from public review or from disclosure under the Freedom of Information Act, you must state this prominently at the beginning of your written comments.

Such requests will be honored to the extent allowed by law. We will not consider anonymous comments. All submissions from organizations or businesses will be made available for public inspection in their entirety.

Dated: December 1, 2005.
Robert A. Bennett,
State Director.

[FR Doc. 06-283 Filed 1-12-06; 8:45 am]

BILLING CODE 4310-22-P